DEPARTMENT OF ENERGY

Federal Energy Regulatory Commission

[Docket No. CP09-69-000]

Viking Gas Transmission Company; Notice of Request Under Blanket Authorization

March 12, 2009.

Take notice that on February 26, 2009, Viking Gas Transmission Company (Viking), 100 West 5th Street, Tulsa, Oklahoma 74103, filed a prior notice request pursuant to part 157 of the Commission's regulations under the Natural Gas Act (NGA) and Viking's blanket certificate issued in Docket No. CP82-414, for authorization to construct, own, and operate an expansion to an existing lateral terminating at the Fargo, North Dakota city gate (Fargo Lateral) and to abandon the existing Fargo Lateral pipeline facilities that are to be replaced, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Viking proposes to expand its Fargo Lateral pipeline facilities by constructing and operating, in two segments, approximately 9.98 miles of a 12-inch diameter natural gas pipeline to replace 9.98 miles of 8-inch diameter natural gas pipeline to be abandoned in place, all in Clay County, Minnesota and Cass County, North Dakota. Viking states that, when fully operational, the new pipeline facilities will be capable of transporting up to 91,000 dekatherms per day (Dth/d) of natural gas from the existing Viking mainline pipeline to the existing Fargo, Dilworth, and Moorhead interconnects. Viking asserts that the existing Fargo Lateral facilities are capable of transporting only 53,332 Dth/d. Viking states that, as a part of the subject project, it proposes the abandonment in place of certain pipeline and auxiliary facilities on its Fargo Lateral, which include approximately 9.98 miles of 8-inch pipeline, as well as short segments of aboveground pipeline that connect directly to tie-in valves which are also to be replaced. Viking states that it has entered into a precedent agreement with Northern States Power Company, a Minnesota corporation (NSP-MN), which provides for a minimum firm transportation capacity of 37,688 Dth/d. Viking asserts that the estimated cost of the proposed project is $14.6 million.

Any questions regarding the application should be directed to Brenda Storbeck, General Manager, Rates & Regulatory Affairs, ONEOK Partners GP, L.L.C., ONEOK Plaza, Tulsa, Oklahoma 74103, at (918) 588-7707.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-6065 Filed 3-19-09; 8:45 am]

BILLING CODE